DEPARTMENT OF DEFENSE

Department of the Army

Availability of Non-Exclusive, Exclusive License or Partially Exclusive Licensing of U.S. Patent Camouflage Pattern for Sheet Material [US D485,685 S]

AGENCY: Department of the Army, DoD.

ACTION: Notice.

SUMMARY: In accordance with 37 CFR 404.6, announcement is made of the availability for licensing of U.S. Patent No. US D485,685 S entitled “Camouflage Pattern for Sheet Material” issued January 27, 2004. This patent has been assigned to the United States Government as represented by the Secretary of the Army.

FOR FURTHER INFORMATION CONTACT: Mr. Robert Rosenkrans at U.S. Army Soldier and Biological Chemical Command, Kansas Street, Natick, MA 01760, Phone: (508) 233-4928 or E-mail: Robert.Rosenkrans@natick.army.mi.

SUPPLEMENTARY INFORMATION: Any licenses granted shall comply with 35 U.S.C. 209 and 37 CFR part 404.

Luz D. Ortiz,
Army Federal Register Liaison Officer.

[FR Doc. 04-2851 Filed 2-9-04; 8:45 am]

BILLING CODE 3710-08-M